DEPARTMENT OF TRANSPORTATION

Office of the Secretary

[DOT-OST-2024-0072]

Department of Transportation Equity Action Plan Update

AGENCY: Office of the Secretary (OST), Department of Transportation (DOT).

ACTION: Request for Information (RFI).

SUMMARY: The Office of the Secretary of Transportation (OST) invites public comment on the most meaningful activities to advance equity that should be considered as part of DOT's 2024 update to its Equity Action Plan. The responses to this RFI will help the Department of Transportation (DOT, or the Department) understand the impact of our equity activities to date and inform what equity-related activities and performance metrics we prioritize through the Plan.

DATES: Comments are requested by August 14, 2024. See the SUPPLEMENTARY INFORMATION section on “Public Participation,” below, for more information about written comments.

Written Comments: Responses to this RFI are voluntary Comments should refer to the docket number above and be submitted by one of the following methods:

• Federal Rulemaking Portal: http://www.regulations.gov. Follow the online instructions for submitting comments.

• Mail: Docket Management Facility, U.S. Department of Transportation, 1200 New Jersey Avenue SE, West Building Ground Floor, Room W12-140, Washington, DC 20590-0001.

• Hand Delivery: 1200 New Jersey Avenue SE, West Building Ground Floor, Room W12-140, Washington, DC, between 9 a.m. and 5 p.m. ET, Monday through Friday, except Federal Holidays.

Instructions: For detailed instructions on submitting comments and additional information on the rulemaking process, see the Public Participation heading of the SUPPLEMENTARY INFORMATION section of this document. Note that all comments received will be posted without change to http://www.regulations.gov, including any personal information provided.

Privacy Act: Except as provided below (“confidential business information”), all comments received into the docket will be made public in their entirety. The comments will be searchable by the name of the individual submitting the comment (or signing the comment, if submitted on behalf of an association, business, labor union, etc.). You should not include information in your comment that you do not want to be made public. For information on DOT's Privacy Act compliance, see https://www.transportation.gov/privacy.

Docket: For access to the docket to read background documents or comments received, go to http://www.regulations.gov or to the street address listed above. Follow the online instructions for accessing the dockets.

FOR FURTHER INFORMATION CONTACT: Please email Equity@dot.gov or contact Kristin Wood at 774-293-2726 with questions. Office hours are from 8 a.m. to 5 p.m. EDT, Monday through Friday, except for Federal holidays.

SUPPLEMENTARY INFORMATION:

Through this Request for Information (RFI), the Department solicits input from the public on the following question:

(1) What activities being advanced through DOT's Equity Action Plan would be the most meaningful in advancing equity?

(a) What activities can be expanded?

(b) What new activities can DOT consider for the future?

This section includes additional background information related to DOT's Equity Action Plan that may be helpful in responding to this question.

The DOT Strategic Plan (available at https://www.transportation.gov/dot-strategic-plan) is a roadmap for the Department's implementation of six strategic goals, one of which is Equity. The Equity strategic goal states that the Department will “reduce inequities across our transportation systems and the communities they affect” and “support and engage people and communities to promote safe, affordable, accessible, and multimodal access to opportunities and services while reducing transportation-related disparities, adverse community impacts, and health effects.”

In response to Executive Order (E.O.) 13985, Advancing Racial Equity and Support for Underserved Communities Through the Federal Government (https://www.federalregister.gov/documents/2021/01/25/2021-01753/advancing-racial-equity-and-support-for-underserved-communities-through-the-federal-government), the Department developed its first Equity Action Plan (https://www.transportation.gov/priorities/equity/actionplan). It highlighted key actions that the Department will undertake to expand access and opportunity to all communities while focusing on underserved, overburdened, and disadvantaged communities.

E.O. 14091, Further Advancing Racial Equity and Support for Underserved Communities Through the Federal Government (https://www.federalregister.gov/documents/2023/02/22/2023-03779/further-advancing-racial-equity-and-support-for-underserved-communities-through-the-federal), directs all federal agencies to update their Equity Action Plans on an annual basis. Specifically, each update should include: the progress made by the agency on the actions, performance measures, and milestones highlighted in the preceding year's Equity Action Plan; potential barriers that underserved communities may face; strategies to address those barriers, and a description of how the agency intends to meaningfully engage with underserved communities. In response to E.O. 14091, the 2023 update to DOT's Equity Action Plan (https://www.transportation.gov/priorities/equity/2023-equity-action-plan) highlights DOT accomplishments and updated commitments to equity. Actions in the EAP fall under five focus areas, including four that carried over from the original Equity Action Plan: Wealth Creation; Power of Community; Proactive Intervention, Planning, and Capacity Building; Expanding Access; and a new Institutionalizing Equity focus area.

The Bipartisan Infrastructure Law (BIL; enacted November 15, 2021 as the Infrastructure Investment and Jobs Act) and Inflation Reduction Act (IRA; enacted August 16, 2022) make historic investments in the transportation sector, improving public safety and climate resilience, creating jobs across the country, and delivering a more equitable future. The Department is committed to applying an equity lens to implementation of BIL and IRA, including through actions described in our initial and updated Equity Action Plans.

Government-wide definitions of (a) equity, (b) underserved communities, and (c) disadvantaged communities have been established via Executive Order(s). DOT has adopted these government-wide definitions for the purpose of this RFI and our Equity Action Plan:

(a) The term “equity” means the consistent and systematic treatment of all individuals in a fair, just, and impartial manner, including individuals who belong to communities that often have been denied such treatment, such as Black, Latino, Indigenous and Native American, Asian American, Native Hawaiian, and Pacific Islander persons and other persons of color; members of religious minorities; women and girls; lesbian, gay, bisexual, transgender, and queer (LGBTQ+) persons; persons with disabilities; persons who live in rural areas; persons who live in United States Territories; persons otherwise adversely affected by persistent poverty or inequality; and individuals who belong to multiple such communities. [Source: E.O. 14091.]

(b) The term “underserved communities” refers to those populations [included in the definition of “equity”] as well as geographic communities that have been systematically denied the opportunity to participate fully in aspects of economic, social, and civic life, as defined in E.O. 13985. [Source: E.O. 14091.]

(c) The term “disadvantaged community” refers to a community that experiences disproportionately high and adverse health, environmental, climate related, economic, and other cumulative impacts. [Source: E.O. 14008, Tackling the Climate Crisis at Home and Abroad, https://www.federalregister.gov/documents/2021/02/01/2021-02177/tackling-the-climate-crisis-at-home-and-abroad.]

In addition, DOT has adopted the following definitions of (d) overburdened community and (2) for the purpose of this RFI and our Equity Action Plan:

(d) The term “overburdened community” refers to minority, low-income, tribal, or Indigenous populations or geographic locations in the United States that potentially experience disproportionate environmental and/or safety harms and risks. This disproportionality can be a result of greater vulnerability to environmental hazards, heightened safety risks, lack of opportunity for public participation, or other factors. [Source: https://www.epa.gov/environmentaljustice/ej-2020-glossary.]

(e) The term “meaningful public involvement” refers to a process that proactively seeks full representation from the community, considers public comments and feedback, and incorporates that feedback into a project, program, or plan. [Source: https://www.transportation.gov/public-involvement.]

DOT is in the process of preparing the 2024 Equity Action Plan update. The responses to this RFI will help the Department understand the impact of our equity activities to date and inform what we prioritize through this year's update to DOT's Equity Action Plan. Through this request, the Department seeks information from stakeholders in public agencies, academic researchers involved in the study of equity in transportation decision-making, advocacy, community-based organizations, and not-for-profit institutions and individuals working in the transportation sector or the field of equity, and State, local, Tribal, and territorial areas, and the public. A summary of input provided to the 2023 EAP update is available at: https://www.transportation.gov/equity-RFI and a webinar will be hosted on July 25, 2024.

Public Participation

How do I prepare and submit comments?

To ensure that your comments are filed correctly, please include the docket number of this document DOT-OST-2024-0072 in your comments.

Please submit one copy (two copies if submitting by mail or hand delivery) of your comments, including any attachments, to the docket following the instructions given above under ADDRESSES. Please note, if you are submitting comments electronically as a PDF (Adobe) file, we ask that the documents submitted be scanned using an Optical Character Recognition (OCR) process, thus allowing the Agency to search and copy certain portions of your submissions.

How do I submit confidential business information?

Any submissions containing Confidential Information must be delivered to DOT in the following manner:

• Submitted in a sealed envelope marked “confidential treatment requested”;

• Document(s) or information that the submitter would like withheld from the public docket should be marked “PROPIN”;

• Accompanied by an index listing the document(s) or information that the submitter would like the Departments to withhold. The index should include information such as numbers used to identify the relevant document(s) or information, document title and description, and relevant page numbers and/or section numbers within a document; and

• Submitted with a statement explaining the submitter's grounds for objecting to disclosing the information to the public.

DOT will treat such marked submissions as confidential under the FOIA and not include them in the public docket. DOT also requests that submitters of Confidential Information include a non-confidential version (either redacted or summarized) of those confidential submissions in the public docket. If the submitter cannot provide a non-confidential version of its submission, DOT requests that the submitter post a notice in the docket stating that it has provided DOT with Confidential Information. Should a submitter fail to docket either a non-confidential version of its submission or to post a notice that Confidential Information has been provided, we will note the receipt of the submission on the docket, with the submitter's organization or name (to the degree permitted by law) and the date of submission.

Will the Agency consider late comments?

DOT will consider all comments received before the close of business on the comment closing date indicated above under DATES. To the extent practicable, DOT will also consider comments received after that date.

How can I read the comments submitted by other people?

You may read the comments received at the address given above under Written Comments. The hours of the docket are indicated above in the same location. You may also see the comments on the internet, identified by the docket number at the heading of this notice, at http://www.regulations.gov.

Please note, this RFI is a planning document and will serve as such. The RFI should not be construed as policy, a solicitation for applications, or an obligation on the part of the government.

Issued in Washington, DC, on July 10, 2024.
Mariia Zimmerman,
Principal Deputy Assistant Secretary for Transportation Policy.

[FR Doc. 2024-15456 Filed 7-12-24; 8:45 am]

BILLING CODE 4910-9X-P